DEPARTMENT OF EDUCATION

Office of Postsecondary Education; Overview Information Native American-Serving Nontribal Institutions (NASNTI) Program; Notice Inviting Applications for New Awards for Fiscal Year (FY) 2010

Catalog of Federal Domestic Assistance (CFDA) Number: 84.031X.

Dates:

Applications Available: July 7, 2010.

Deadline for Transmittal of Applications: August 6, 2010.

Full Text of Announcement

I. Funding Opportunity Description

Purpose of Program: The NASNTI Program provides grants and related assistance to Native American-Serving Nontribal Institutions to enable these institutions to improve and expand their capacity to serve Native Americans and low-income individuals by increasing their self-sufficiency in improving academic programs, institutional management, and fiscal stability.

To qualify for funds under the NASNTI Program, an institution of higher education (IHE) must: Be an eligible institution under section 312(b) of the Higher Education Act of 1965, as amended (HEA); have an enrollment of undergraduate students that is at least 10 percent Native American at the time of application for a grant; and not be a Tribal College or University under section 316 of the HEA.

Priorities: Under this competition, we are particularly interested in applications that address the following invitational priorities:

Invitational Priorities: For FY 2010, there are six invitational priorities for this program. Under 34 CFR 75.105(c)(1) we do not give an application that meets these invitational priorities a competitive or absolute preference over other applications.

These invitational priorities are:

Invitational Priority 1.

Develop programs that meet the unique educational and culturally-related academic needs of Native Americans, particularly in the area of language preservation.

Invitational Priority 2.

Work with Native American tribes to develop programs that meet the unique academic and cultural needs of Native American students.

Invitational Priority 3.

Support activities that will improve the institution's persistence and graduation rates.

Invitational Priority 4.

Work with the appropriate State agencies to develop strategies for using State longitudinal data systems to track outcomes for students attending the grantee institution, including the extent to which the students complete certificates, two-year degrees, and four-year degrees at other institutions.

Invitational Priority 5.

Develop academic programs to improve course completion rates or develop innovative support programs that are designed to increase completion rates.

Invitational Priority 6.

Develop dual enrollment programs that facilitate the transition between high school and college or career pathways programs that integrate basic academic instruction with technical or professional occupational training to advance individuals, particularly adult learners, on a career path toward high-wage occupations in high-demand industries.

Program Authority: Title III, Part A, Section 319 of the HEA.

Applicable Regulations: The Education Department General Administrative Regulations (EDGAR) in 34 CFR parts 74, 75, 77, 79, 80, 82, 84, 85, 86, 97, 98, and 99.

Note: The regulations in 34 CFR part 79 apply to all applicants except Federally recognized Indian tribes.

II. Award Information

Type of Award: Title III, Part A—Five-year Individual Development grants and five-year Cooperative Arrangement Development grants will be awarded in FY 2010.

Estimated Available Funds: Title III, Part A $3,600,000.

Program name and type of award | Minimum/maximum award amount | Estimated number of awards | Estimated average award amount
Native American-serving Nontribal Institutions (NASNTI):
Title III, Part A Five-Year Individual Development Grants | $200,000-$400,000 | 8 | $383,000
Five-Year Cooperative Arrangement Development Grants | $200,000-$500,000 | 1 | $350,000

Note: The Department is not bound by any estimates in this notice. Applicants should periodically check the Title III Program's Web site for further information. The address is: http://www.ed.gov/about/offices/list/ope/idues/index.html.

Project Period: Up to 60 months.

III. Eligibility Information

1. Eligible Applicants: An IHE is eligible to receive funds under this program if it is a Native American-Serving Nontribal Institution (NASNTI).

Native American. The term “Native American” means an individual who is of a tribe, people, or culture that is indigenous to the United States as defined in the Office of Management and Budget's Standards for Maintaining, Collecting, and Presenting Federal Data on Race and Ethnicity as published on October 30, 1997 (62 FR 58789). As part of the application for a grant, applicants will be required to complete and submit a certification assurance form on which the applicant provides their total undergraduate headcount enrollment and certifies that 10 percent of its enrollment is Native American for the purpose of the NASNTI program. The form must be submitted and signed by an official with the authority to represent the institution.

To qualify as an eligible institution under the NASNTI program, an institution must, among other requirements—

(1) Be accredited or preaccredited by a nationally recognized accrediting agency or association that the Secretary has determined to be a reliable authority as to the quality of education or training offered;

(2) Be legally authorized by the State in which it is located to be a junior college or to provide an educational program for which it awards a bachelor's degree;

(3) Be designated as an “eligible institution” by demonstrating that it: (A) Has an enrollment of needy students as described in 34 CFR 607.3; and (B) has low average educational and general expenditures per full-time equivalent (FTE) undergraduate student as described in 34 CFR 607.4.

Note: The notice for applying for designation as an eligible institution for FY 2010 was published on December 7, 2009, 74 FR 64059, and applications were due on January 6, 2010. Only institutions that submitted applications by the deadline date of January 6, 2010 and that the Department determined are eligible may apply for a grant.

Relationship between the Title III, Part A programs and the Hispanic-Serving Institutions (HSI) program.

Note 1: A grantee under the Developing Hispanic-Serving Institutions (HSI) program, which is authorized by Title V of the HEA, may not receive a grant under any HEA, Title III, Part A program including the NASNTI program. Further, a current HSI program grantee may not give up its HSI grant in order to receive a grant under any Title III, Part A program.

Note 2: An eligible HSI that does not fall within the limitation described in Note 1 (i.e., is not a current grantee under the HSI program) may apply for a FY 2010 grant under all Title III, Part A programs for which it is eligible, as well as receive consideration for a grant under the HSI program. However, a successful applicant may receive only one grant.

Note 3: The Department will make grant awards in rank order from the funding slates according to the average score received from a panel of three readers.

2. Cost Sharing or Matching: This program does not require cost sharing or matching.

IV. Application and Submission Information

1. Address To Request Application Package:

You can obtain an application via the Internet using the following address: http://e-grants.ed.gov. If you do not have access to the Internet, please contact LaTonya Brown or Darlene Collins, U.S. Department of Education, 1990 K Street, NW., 6th Floor, Washington, DC 20006-8513. You may contact these individuals at the following e-mail addresses or telephone numbers:

LaTonya.Brown@ed.gov; (202) 502-7619

Darlene.Collins@ed.gov; (202) 502-7576

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this program.

Page Limits: We have established mandatory page limits for both the Individual Development Grant and the Cooperative Arrangement Development Grant applications. You must limit the section of the narrative that addresses the selection criteria to no more than 50 pages for the Individual Development Grant application and 70 pages for the Cooperative Arrangement Development Grant application, using the following standards:

• A “page” is 8.5″ × 11″, on one side only, with 1 inch margins at the top, bottom, and both sides. Page numbers and an identifier may be within the 1″ margins.

• Double space (no more than three lines per vertical inch) all text in the application narrative, including titles, headings, footnotes, quotations, references, and captions. However, you may single space all text in charts, tables, figures, and graphs. Charts, tables, figures, and graphs presented in the application narrative count toward the page limit.

• Use a font that is either 12-point or larger or no smaller than 10 pitch (characters per inch). However, you may use a 10-point font in charts, tables, figures, graphs, footnotes, and endnotes.

• Use one of the following fonts: Times New Roman, Courier, Courier New, or Arial. An application submitted in any other font (including (Times Roman or Arial Narrow) will not be accepted.

The page limit does not apply to Part I, the Application for Federal Assistance (SF 424); the Supplemental Information for SF 424 Form required by the Department of Education; Part II, the Budget Information Summary Form (ED Form 524); and Part IV, the Assurances and Certifications. The page limit also does not apply to the Table of Contents, the Program one-page Abstract, the resumes, the bibliography, or the letters of support. If you include any attachments or appendices, these items will be counted as part of the Program Narrative (Part III of the application) for purposes of the page limit requirement. You must include your complete response to the selection criteria in the program narrative.

We will reject your application if you exceed the page limit.

3. Submission Dates and Times:

Applications Available: July 7, 2010.

Deadline for Transmittal of Applications: August 6, 2010.

Applications for grants under this program must be submitted electronically using the Electronic Grant Application System (e-Application) accessible through the Department's e-Grants Web site at: http:// e-grants.ed.gov. For information (including dates and times) about how to submit your application electronically, or in paper format by mail or hand delivery if you qualify for an exception to the electronic submission requirement, please refer to section IV. 7. Other Submission in Requirements of this notice.

We do not consider an application that does not comply with the deadline requirements.

Individuals with disabilities who need an accommodation or auxiliary aid in connection with the application process should contact the person listed under For Further Information Contact in section VII in this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We reference the regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under the NASNTI program must be submitted electronically unless you qualify for an exception to this requirement in accordance with the instructions in this section.

a. Electronic Submission of Applications.

Applications for grants under the NASNTI Program CFDA Number 84.031X must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. The e-Application system will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• Please note that two of these forms—the SF 424 and the Department of Education Supplemental Information for SF 424—have replaced the ED 424 (Application for Federal Education Assistance). You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date. Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgement of any system unavailability, you may contact either (1) the person listed elsewhere in this notice under For Further Information Contact (see VII. Agency Contact) or (2) the e-Grants help desk at 1-888-336-8930. If e-Application is unavailable due to technical problems with the system, the application deadline is extended, an e-mail will be sent to all registered users who have initiated an e-Application. Extensions referred to in this section apply only to the unavailability of e-Application. Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: LaTonya Brown or Darlene Collins, U.S. Department of Education, 1990 K Street, NW., 6th floor, Washington, DC 20006-8513. FAX: (202) 502-7861. You may contact these individuals at the following e-mail addresses or telephone numbers:

LaTonya.Brown@ed.gov; (202) 502-7619

Darlene.Collins@ed.gov; (202) 502-7576

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.031X) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.031X) 550 12th Street, SW., Room 7041, Potomac Center Plaza, Washington, DC 20202-4260.

The Application Control Center accepts hand deliveries daily between 8:00 a.m. and 4:30:00 p.m., Washington, DC time, except Saturdays, Sundays and Federal holidays.

Note for Mail or Hand Delivery of Paper Applications: If you mail or hand deliver your application to the Department—

(1) You must indicate on the envelope and—if not provided by the Department—in Item 11 of the SF 424, the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria—The selection criteria for this program are in the Education Department General Administrative Regulations (EDGAR) section 75.210. Applicants must address each of the following selection criteria (separately for each proposed activity). The total weight of the selection criteria is 100 points; the weight of each criterion is noted in parentheses.

a. Need for the project. (Maximum 20 points) In determining the need for the proposed project, the Secretary considers:

1. The magnitude of the need for the services to be provided or the activities to be carried out by the proposed project. (10 points)

2. The extent to which the proposed project will focus on serving or otherwise addressing the needs of disadvantaged individuals. (5 points)

3. The extent to which specific gaps or weaknesses in services, infrastructure, or opportunities have been identified and will be addressed by the proposed project, including the nature and magnitude of those gaps or weaknesses. (5 points)

b. Quality of the project design. (Maximum 15 points) In determining the quality of the design of the proposed project, the Secretary considers:

1. The extent to which the goals, objectives, and outcomes to be achieved by the proposed project are clearly specified and measurable. (10 points)

2. The extent to which the design of the proposed project is appropriate to, and will successfully address, the needs of the target population or other identified needs. (5 points)

c. Quality of project services. (Maximum 15 points) In determining the quality of the services to be provided by the proposed project, the Secretary considers the quality and sufficiency of strategies for ensuring equal access and treatment for eligible project participants who are members of groups that have traditionally been underrepresented based on race, color, national origin, gender, age, or disability. In addition, the Secretary considers:

1. The extent to which the services provided by the proposed project are appropriate to the needs of the intended recipients or beneficiaries of those services. (10 points)

2. The extent to which the services to be provided by the proposed project reflect up-to-date knowledge from research and effective practice. (5 points)

d. Quality of project personnel. (Maximum 10 points) In determining the quality of project personnel, the Secretary considers the extent to which the applicant encourages applications for employment from persons who are members of groups that have traditionally been underrepresented based on race, color, national origin, gender, age, or disability.

In addition, the Secretary considers:

1. The qualifications, including relevant training and experience, of the project director or principal investigator. (5 points)

2. The qualifications, including relevant training and experience, of key project personnel. (5 points)

e. Adequacy of resources. (Maximum 5 points) In determining the adequacy of resources for the proposed project, the Secretary considers:

1. The extent to which the budget is adequate to support the proposed project. (3 points)

2. The extent to which the costs are reasonable in relation to the objectives, design, and potential significance of the proposed project. (2 points)

f. Quality of the management plan. (Maximum 20 points) In determining the quality of the management plan for the proposed project, the Secretary considers:

1. The adequacy of the management plan to achieve the objectives of the proposed project on time and within budget, including clearly defined responsibilities, timelines, and milestones for accomplishing project tasks. (10 points)

2. The adequacy of procedures for ensuring feedback and continuous improvement in the operation of the proposed project. (5 points)

3. The adequacy of mechanisms for ensuring high-quality products and services from the proposed project. (5 points)

g. Quality of the project evaluation. (Maximum 15 points) In determining the quality of the evaluation, the Secretary considers:

1. The extent to which the methods of evaluation are thorough, feasible and appropriate to the goals, objectives and outcomes of the proposed project. (5 points)

2. The extent to which the methods of evaluation include the use of objective performance measures that are clearly related to the intended outcomes of the project and will produce quantitative and qualitative data to the extent possible. (5 points)

3. The extent to which the methods of evaluation will provide performance feedback and permit periodic assessment of progress toward achieving intended outcomes. (5 points)

2. Review and Selection Process: For five-year individual development grants and five-year cooperative arrangement development grants, awards will be made in rank order according to the average score received from a panel of three readers. All Title III Part A applications for individual development grants will be ranked together from the highest to the lowest score for funding purposes and all cooperative arrangement development grants will be ranked in the same manner.

3. Tie-breaker for Title III, Part A Development Grants. In tie-breaking situations, 34 CFR 607.23(b) requires that we award one additional point to an application from an IHE that has an endowment fund of which the current market value per FTE enrolled student is less than the average current market value of the endowment funds, per FTE enrolled student at comparable institutions that offer similar instruction. We award one additional point to an application from an IHE that had expenditures for library materials per FTE enrolled student that are less than the average expenditures per FTE enrolled student at comparable institutions that offer similar instruction. We also add one additional point to an application from an IHE that proposes to carry out one or more of the following activities—

1. Faculty development;

2. Funds and administrative management;

3. Development and improvement of academic programs;

4. Acquisition of equipment for use in strengthening management and academic programs;

5. Joint use of facilities; and

6. Student services.

For the purpose of these funding considerations, we use 2007-2008 data. If a tie remains after applying the tie-breaker mechanism above, priority will be given in the case of applicants for: (a) Individual development grants to applicants that have the lowest endowment values per FTE enrolled student; and (b) cooperative arrangement development grants to applicants in accordance with section 394(b) of the HEA, if the Secretary determines that the cooperative arrangement is geographically and economically sound or will benefit the applicant institution.

VI. Award Administration Information

1. Award Notices: If your application is successful, we notify your U.S. Representative and U.S. Senators and send you a Grant Award Notification (GAN). We may notify you informally also.

If your application is not evaluated or not selected for funding, we notify you.

2. Administrative and National Policy Requirements: We identify administrative and national policy requirements in the application package and reference these and other requirements in the Applicable Regulations section in this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary in 34 CFR 75.118 and 34 CFR 607.31. The Secretary may also require more frequent performance reports under 34 CFR 75.720(c). For specific requirements on reporting, please go to http://www.ed.gov/fund/grant/apply/appforms/appforms.html.

4. Performance Measures: The Secretary has established the following key performance measures for assessing the effectiveness of the NASNTI programs:

a. The percentage change, over a five-year period, of the number of full-time degree-seeking undergraduates enrolling at NASNTIs. Note that this is a long-term measure, which will be used to periodically gauge performance;

b. The percentage of first-time, full-time degree-seeking undergraduate students at four-year NASNTIs who were in their first year of postsecondary enrollment in the previous year and are enrolled in the current year at the same NASNTI;

c. The percentage of first-time, full-time degree-seeking undergraduate students at two-year NASNTIs who were in their first year of postsecondary enrollment in the previous year and are enrolled in the current year at the same NASNTI;

d. The percentage of first-time, full-time degree-seeking undergraduate students enrolled at four-year NASNTIs who graduate within six years of enrollment; and

e. The percentage of first-time, full-time degree-seeking undergraduate students enrolled at two-year NASNTIs who graduate within three years of enrollment.

VII. Agency Contacts

For Further Information Contact: LaTonya Brown or Darlene Collins, U.S. Department of Education, 1990 K Street, NW., 6th floor, Washington, DC 20006-8513. You may contact these individuals at the following e-mail addresses or telephone numbers:

LaTonya.Brown@ed.gov; (202) 502-7619

Darlene.Collins@ed.gov; (202) 502-7576

If you use a TDD, call the FRS, toll free, at 1-800-877-8339.

VIII. Other Information

Accessible Format: Individuals with disabilities can obtain this document and a copy of the application package in an accessible format (e.g., braille, large print, audiotape, or computer diskette) on request to the program contact persons listed in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: June 30, 2010.
Daniel T. Madzelan,
Director, Forecasting and Policy Analysis.

[FR Doc. 2010-16378 Filed 7-6-10; 8:45 am]

BILLING CODE 4000-01-P